OFFICE OF MANAGEMENT AND BUDGET

Draft 2009 Report to Congress on the Benefits and Costs of Federal Regulations

AGENCY: Office of Management and Budget, Executive Office of the President.

ACTION: Notice of availability and request for comments.

SUMMARY: The Office of Management and Budget (OMB) requests comments on its Draft 2009 Report to Congress on the Benefits and Costs of Federal Regulations. The full Draft Report is available at http://www.whitehouse.gov/omb/inforeg_regpol_reports_congress/, and is divided into four chapters. Chapter I examines the benefits and costs of major Federal regulations issued in fiscal year 2008 and summarizes the benefits and costs of major regulations issued between September 1998 and 2008. It also discusses regulatory impacts on State, local, and tribal governments, small business, wages, and economic growth. Chapter II examines trends in regulation since OMB began to compile benefit and cost estimates records in 1981. Chapter III provides an update on implementation of the Information Quality Act. Chapter IV summarizes agency compliance with the Unfunded Mandates Reform Act.

DATES: To ensure consideration of comments as OMB prepares this Draft Report for submission to Congress, comments must be in writing and received by 45 days after publication.

ADDRESSES: Submit comments by one of the following methods:

• http://www.regulations.gov: Direct comments to Docket ID OMB-2009-0017.

• Fax: (202) 395-7285.

• Mail: Office of Information and Regulatory Affairs, Office of Management and Budget, Attn: Darcel D. Gayle, NEOB, Room 10202, 725 17th Street, NW., Washington, DC 20503. We are still experiencing delays in the regular mail, including first class and express mail. To ensure that your comments are received, we recommend that comments on this draft report be electronically submitted.

All comments submitted in response to this notice will be made available to the public, including by posting them on OMB's Web site. For this reason, please do not include in your comments information of a confidential nature, such as sensitive personal information or proprietary information. The http://www.regulations.gov Web site is an “anonymous access” system, which means OMB will not know your identity or contact information unless you provide it in the body of your comment.

FOR FURTHER INFORMATION CONTACT: Darcel D. Gayle, Office of Information and Regulatory Affairs, Office of Management and Budget, NEOB, Room 10202, 725 17th Street, NW., Washington, DC 20503. Telephone: (202) 395-3084.

SUPPLEMENTARY INFORMATION: Congress directed the Office of Management and Budget (OMB) to prepare an annual Report to Congress on the Benefits and Costs of Federal Regulations. Specifically, section 624 of the FY 2001 Treasury and General Government Appropriations Act, also known as the “Regulatory Right-to-Know Act,” (the Act) requires OMB to submit a report on the benefits and costs of Federal regulations together with recommendation for reform. The Act states that the report should contain estimates of the benefits and costs of regulations in the aggregate, by agency and agency program, and by major rule, as well as an analysis of impacts of Federal regulation on State, local, and tribal governments, small businesses, wages, and economic growth. The Act also states that the report should go through notice and comment and peer review.

Kevin F. Neyland,
Deputy Administrator, Office of Information and Regulatory Affairs.

[FR Doc. E9-22606 Filed 9-18-09; 8:45 am]

BILLING CODE 3110-01-P